DEPARTMENT OF ENERGY

Federal Energy Regulatory Commission

[Docket No. CP01-32-000]

Williams Gas Processing—Gulf Cost Company, L.P.; Notice of Petition for Declaratory Order

November 30, 2000.

Take notice that on November 20, 2000, Williams Gas Processing—Gulf Coast Company, L.P. (WGP), P.O. Box 1396, Houston, Texas 77251, in Docket No. CP01-32-000 filed a petition for a declaratory order requesting that the Commission declare that certain pipeline facilities located almost entirely in offshore waters on the Outer Continental Shelf (OCS), offshore Texas to be acquired from WGP's affiliate, Transcontinental Gas Pipe Line Corporation (Transco), would have the primary function of gathering of natural gas and would thereby be exempt from the Commission's jurisdiction pursuant to Section 1(b) of the Natural Gas Act, all as more fully set forth in the application which is on file with the Commission and open to public inspection. This filing may be viewed on the web at http://www.ferc.fed.us/online/rims.htm (call 202-208-2222 for assistance).

WGP states that the pipeline facilities at issue consist of portions of the North Padre Island Gathering System (North Padre) and the Central Texas Gathering System (Central Texas). Specifically, WGP states that the North Padre facilities consist of 3.83 miles of 10-inch pipeline that begins in North Padre Island (NPI) Block 967 and ends at NPI Block 956 and 18.79 miles of 20-inch pipeline that begins in East Addition Block A-42 and ends at NPI Block 956, offshore Texas. WGP states that the Central Texas facilities consist of 4.96 miles of 6-inch pipeline, 4.19 miles of 8-inch pipeline, 3.77 miles of 10-inch pipeline, 64.79 miles of 12-inch pipeline, 11.56 miles of 16-inch pipeline, 116.48 miles of 20-inch pipeline, 23.42 miles of 24-inch pipeline, and 41.15 miles of 30-inch pipeline in the Brazos Area Block 538, offshore Texas.

Under a Transfer and Assignment Agreement entered into by WGP and Transco, WGP indicates that it will provide gathering services in a manner consistent with open access and non-discriminatory principles. WGP advises that no customers presently receive direct sales service from the subject facilities pursuant to right-of-way agreements or other sales agreements, therefore, no direct sales service will be terminated as a result of the transfer.

WGP states that the primary function of the facilities is gathering, consistent with the criteria set forth in Farmland Industries, Inc. (23 FERC ¶ 61,063 (1983)), as modified in subsequent orders, and in Sea Robin Pipeline Co. (87 FERC ¶ 61,384 (1999), reh'g denied, 92 FERC ¶ 61,072 (2000)).

WGP advises that this petition is a companion to Transco's concurrently filed application in Docket No. CP01-34-000 to abandon the subject facilities by transfer to WGP.

Any questions regarding the application should be directed to Steve Springer, Senior Vice President, at (713) 439-2454, Williams Gas Processing-Gulf Coast Company, L.P., Houston, Texas 77251.

Any person desiring to be heard or to make any protest with reference to said Application should on or before December 21, 2000, file with the Federal Energy Regulatory Commission, 888 First Street, N.E., Washington, D.C. 20426, a motion to intervene or a protest in accordance with the requirements of the Commission's Rules of Practice and Procedure (18 CFR 385.211 or 18 CFR 385.214) and the Regulations under the Natural Gas Act (18 CFR 157.10). All protests filed with the Commission will be considered by it in determining the appropriate action to be taken but will not serve to make the protestants parties to the proceeding. Any person wishing to become a party to a proceeding or to participate as a party in any hearing therein must file a motion to intervene in accordance with the Commission's Rules. Beginning November 1, 2000, comments and protests may be filed electronically via the internet in lieu of paper. See, 18 CFR 385.2001(a)(1)(iii) and the instructions on the Commission's web site at http://www.ferc.fed.us/efi/doorbell.htm.

Take further notice that pursuant to the authority contained in and subject to the jurisdiction conferred upon the Commission by Sections 7 and 15 of the Natural Gas Act and the Commission's Rules of Practice and Procedure, a hearing will be held without further notice before The Commission or its designee on this Application if no petition to intervene is filed within the time required herein, if the Commission on its own review of the matter finds that a grant of the abandonment is required by the public convenience and necessity. If a petition for leave to intervene is timely filed, or if the Commission, on its own motion believes that a formal hearing is required, further notice of such hearing will be duly given.

Under the procedure herein provided for, unless otherwise advised, it will be unnecessary for WGP to appear or be represented at the hearing.

David P. Boergers,
Secretary.

[FR Doc. 00-30981 Filed 12-5-00; 8:45 am]

BILLING CODE 6717-01-M